DEPARTMENT OF AGRICULTURE

National Institute of Food and Agriculture

Administrative Guidance for Multistate Extension Activities and Integrated Research and Extension Activities

AGENCY: National Institute of Food and Agriculture, USDA.

ACTION: Notice of interim guidance and request for comments.

SUMMARY: The National Institute of Food and Agriculture (NIFA) is issuing a revised Administrative Guidance for Multistate Extension Activities and Integrated Research and Extension Activities as interim with a 60-day comment period. The Administrative Guidance has been revised to address the findings and recommendations of the U.S. Department of Agriculture (USDA) Office of Inspector General (OIG) Audit Report no. 13001-3-Te: “Cooperative State Research, Education, and Extension Service's Implementation of the Agricultural Research, Extension and Education Reform Act of 1998 (AREERA),” and to clarify policies and procedures associated with these requirements. Section 105 of AREERA amended the Smith-Lever Act to require that a specified amount of agricultural extension formula funds be expended on multistate extension activities. Section 204 of AREERA amended the Hatch Act and Smith-Lever Act to require that a specified amount of agricultural research and extension formula funds be expended on integrated research and extension activities.

DATES: The interim Administrative Guidance is effective August 12, 2010. The Agency must receive comments by October 12, 2010 for them to be considered in the final Administrative Guidance.

ADDRESSES: You may submit comments identified by 2010-0025, by any of the following methods:

Federal eRulemaking Portal: http://www.regulations.gov. Follow the instructions for submitting comments.

E-mail: administrativeguidance@nifa.usda.gov. Include the Docket Number in the subject line of the message.

Fax: 202-401-7752.

Mail: paper, disk or CD-ROM submissions should be submitted to the National Institute of Food and Agriculture, U.S. Department of Agriculture, STOP 2299, 1400 Independence Avenue, SW., Washington, DC 20250-2299.

Hand Delivery/Courier: National Institute of Food and Agriculture, U.S. Department of Agriculture, Room 2247, Waterfront Centre, 800 9th Street, SW., Washington, DC 20024.

Instructions: All submissions received must include the agency name and the docket number 2010-0025. All comments received will be posted without change to http://www.regulations.gov, including any personal information provided.

FOR FURTHER INFORMATION CONTACT: Mary Snieckus, Policy Specialist, Office of Extramural Programs, National Institute of Food and Agriculture, U.S. Department of Agriculture, STOP 2299, 1400 Independence Avenue, SW., Washington, DC 20250-2299; Voice: 202-720-3842; Fax: 202-401-7752; E-mail: msnieckus@nifa.usda.gov.

SUPPLEMENTARY INFORMATION:

Background and Purpose

The Cooperative State Research, Education, and Extension Service (CSREES) (now NIFA), in response to Recommendation 1 of the USDA OIG Audit Report no. 13001-3-Te: “Cooperative State Research, Education, and Extension Service's Implementation of the Agricultural Research, Extension and Education Reform Act of 1998” (often referred to as the AREERA Audit) is requiring 1862 Land-Grant Institutions not computing their base percentages to select 25 percent as the target percentage for multistate extension activities and for integrated research and extension activities or to correctly determine their base percentages based on actual expenditures. In FY 2000, 1862 Land-Grant Institutions were provided four options for establishing a Target Percentage for these requirements: (A) Target 25 percent which will automatically waive the requirements to report on the FY 1997 expenditures for multistate extension activities; (B) Target a percentage which is two times the FY 1997 expenditures for multistate extension activities (commonly referred to as the FY 1997 baseline) but less than 25 percent; (C) Target a percentage that is less than 25 percent (usually selected when auditable expenditure data is not available); and (D) Phase-in Option C with a 3-year phase-in period. The USDA OIG determined during the audit that Options C and D did not meet the intent of the legislation and that the 1862 Land-Grant Institutions, if unable to determine their actual FY 1997 baseline expenditures for multistate extension and integrated research and extension activities, must select 25 percent, and thus, expend 25 percent of their Smith-Lever Act funds on multistate extension activities and 25 percent on integrated research and extension activities and expend 25 percent of Hatch Act funds on integrated research and extension activities. However, Federal funds that are used by the institution for a fiscal year for integrated activities may also be counted to satisfy the multistate activities requirement.

In the revised Administrative Guidance, NIFA is requesting that each 1862 Land-Grant Institution (in the 50 States and in the District of Columbia for Hatch Act funds only) review the table in Appendix A which identifies by State the total FY 1997 Hatch Act and Smith-Lever Act funds allocated, the FY 1997 expenditures reported for multistate extension activities and integrated activities, the Target Percentage selected, and whether the Target Percentages needed to be reset at 25 percent or to be based on the actual FY 1997 expenditures. Appendix A is available at http://www.nifa.usda.gov/business/reporting/planrept/plansofwork.html. Although some institutions had previously established 25 percent or a Target Percentage based on actual expenditures, NIFA is requesting that all institutions either reconfirm or reset their Target Percentages.

The revised Administrative Guidance also clarifies the criteria for AREERA section 105 and 204 waiver requests and describes the waiver process in more detail. NIFA also seeks to clarify that for purposes of determining the actual multistate extension and integrated amounts, only the regular allocation under the Smith-Lever Act (i.e., Smith-Lever Act sections 3(b)&(c)) and the Hatch Act allocations together (i.e., the regular Hatch Act allocation according to the legislative formula and the amount used to identify the matching amount for the Hatch Multistate Research Fund allocation) should be used to identify the actual expenditures required for that fiscal year's formula grants (i.e., formula funds).

In complying with the Government Paperwork Elimination Act (GPEA), NIFA is considering an electronic business process for collecting the annual Form NIFA-PLAN (Rev. 07/2010) and Form NIFA-REPT (Rev. 07/2010) data to ensure AREERA sections 105 and 204 compliance. NIFA plans to integrate these requirements as part of the update to the 5-Year Plan of Work and Annual Report of Accomplishments and Results which will be entered electronically through the AREERA State Plan of Work Information System.

Response to Stakeholder Input

CSREES provided a draft of the revised Administrative Guidance to the State Extension Directors on May 2, 2008, and provided a 60-day comment period. Fifteen comments were received during the comment period. Thirteen were from university officials and two were from USDA staff. Comment topics included the administrative burden associated with compliance, definition of integrated activities, the use of split appointments, use of non-Federal funds to meet these requirements, waivers, effective date of revised Administrative Guidance, and the use of intrastate activities to meet the multistate requirements. Three of the commenters felt that resetting and reconfirming the target percentages would be a significant burden to the institutions. While NIFA realizes this may be a significant burden to some institutions, institutions are required to either expend the lesser of 25 percent or twice the percentage amount they spent in FY 1997 of their Smith-Lever Act funds on multistate extension activities and the lesser of 25 percent or twice the percentage amount they spent in FY 1997 of their Hatch Act and Smith-Lever Act funds on integrated activities. Three commenters requested clarification if two staff people need to be working on an activity for it to be considered “integrated.” Two people do not need to be working on an activity for it to be “integrated.” The misleading text has been deleted from the Administrative Guidance. There were two comments about the effective date of the Administrative Guidance and the time period to which it applies. Although the Administrative Guidance is effective upon publication in the Federal Register, the approved revised and reconfirmed target percentages do not apply until FY 2011. Two commenters stated that although their institution may not meet the target percentages for multistate and extension activities with Federal funds, they would if the entire funding portfolio was considered (e.g., state and local funds). They requested that non-Federal funds be used to meet these requirements. While NIFA can appreciate this, the legislation applies to the Federal funds only. Five respondents commented that the use of formal agreements to document multistate extension activities was overly burdensome. The Administrative Guidance does not require formal agreements to support eligible multistate extension activities. One commenter asked if they could use intrastate activities to meet the multistate extension requirements. Institutions may not use intrastate activities to meet these requirements as the legislation requires activities that involve more than one state. Finally, two commenters stated that the Administrative Guidance was clear and helpful.

Time Line for Implementation

Although this Interim Administrative Guidance is effective upon publication in the Federal Register, NIFA is requesting comments during a 60-day period. These comments will be considered and incorporated in the final version of the Administrative Guidance. NIFA is requesting that institutions either reset or reconfirm their target percentages for multistate extension and integrated activities by September 30, 2010. NIFA will review and approve these target percentages by October 29, 2010. These approved target percentages will be effective October 1, 2010.

Paperwork Reduction Act

In accordance with the Office of Management and Budget (OMB) regulations (5 CFR part 1320) that implement the Paperwork Reduction Act of 1995, as amended (44 U.S.C. Chapter 35), the information and recordkeeping requirements imposed by the implementation of this guidance were approved under OMB Information Collection No. 0524-0036, “Reporting Requirements for the State Plans of Work for Agricultural Research and Extension Formula Funds.”

Pursuant to the requirements for multistate extension activities and integrated research and extension activities enacted in the Agricultural Research, Extension, and Education Reform Act of 1998, NIFA hereby implements the Administrative Guidance for Multistate Extension Activities and Integrated Research and Extension Activities:

Interim Administrative Guidance for Multistate Extension Activities and Integrated Research and Extension Activities

I. Preface and Authority

II. Definitions

III. Multistate Extension Activities

A. Establishment of the Target Percentage

B. Submission of the Supplement to the 5-Year Plan of Work

C. Annual Report of Accomplishments and Results

D. Waivers

IV. Integrated Activities (Hatch Act Funds)

A. Establishment of the Target Percentage

B. Submission of the Supplement to the 5-;Year Plan of Work

C. Annual Report of Accomplishments and Results

D. Waivers

V. Integrated Activities (Smith-Lever Act Funds only)

A. Establishment of the Target Percentage

B. Submission of the Supplement to the 5-Year Plan of Work

C. Annual Report of Accomplishments and Results

D. Waivers

VI. Submission of Forms

Appendix A—FY 1997 Hatch Act and Smith-Lever Act Allocations

Appendix B—Forms

Form NIFA-TARG (Rev. 07/2010), Establishment of Target Percentages for Multistate Extension Activities and Integrated Activities

Form NIFA-BASE (Rev. 07/2010), Establishment of Fiscal Year (FY) 1997 Baselines for Multistate Extension Activities and Integrated Activities, Summary of FY 1997 Planned Programs/Activities and Expenditures

Form NIFA-PLAN (Rev. 07/2010), Supplement to the 5-Year Plan of Work, Multistate Extension Activities and Integrated Extension Activities

Form NIFA-REPT (Rev. 07/2010), Supplement to the Annual Report of Accomplishments and Results, Multistate Extension Activities and Integrated Activities

Form NIFA-WAIVER (07/2010), Request for Waiver from Target Percentage for Multistate Extension Activities and Integrated Activities

Appendix C—Frequently Asked Questions

All appendices are available at http://www.nifa.usda.gov/business/reporting/planrept/plansofwork.html.

I. Preface and Authority

Section 105 of the Agricultural Research, Extension, and Education Reform Act of 1998 (AREERA) amended the Smith-Lever Act to require that each institution receiving extension formula funds under sections 3(b) and (c) of the Smith-Lever Act expend for multistate activities in FY 2000 and thereafter a percentage that is at least equal to the lesser of 25 percent or twice the percentage of funds expended by the institution for multistate activities in FY 1997 (7 U.S.C. 343(h)). Section 204 of AREERA amended both the Hatch and the Smith-Lever Acts to require that each institution receiving agricultural research and extension formula funds under the Hatch Act and sections 3(b) and (c) of the Smith-Lever Act expend for integrated research and extension activities in FY 2000 and thereafter a percentage that is at least equal to the lesser of 25 percent or twice the percentage of funded expended by the institution for integrated research and extension activities in FY 1997 (7 U.S.C. 343(i) & 361c(i)). These sections also require that the institutions include in the plan of work a description of the manner in which they will meet these multistate and integrated requirements.

These applicable percentages apply to the Federal agricultural research and extension formula funds only. Federal formula funds that are used by the institution for a fiscal year for integrated activities may also be counted to satisfy the multistate activities requirement.

The multistate extension and the integrated research and extension activities do not apply to the formula funds received by American Samoa, Guam, Micronesia, Northern Marianas, Puerto Rico, and the Virgin Islands. Since the Smith-Lever Act is not directly applicable, the multistate and integrated extension requirements do not apply to extension funds received by the District of Columbia.

The amendments made by sections 105 and 204 of AREERA also provide that the Secretary of Agriculture may reduce the minimum percentage required to be expanded by the institution for multistate and integrated activities in the case of hardship, infeasibility, or other similar circumstance beyond the control of the institution.

II. Definitions

For the purposes of implementing sections 105 and 204 of AREERA, the following definitions are applicable:

Activities mean either research projects or extension programs.

Formula Funds means, for the purpose of the multistate extension activities and integrated activities guidance, the Federal mean formula funding provided to the 1862 Land-Grant Institutions under section 3 of the Hatch Act of 1887, as amended (7 U.S.C. 361c) and sections 3(b)(1) and (c) of the Smith-Lever Act, as amended (7 U.S.C. 343(b)(1) and (c)).

Integrated activities means jointly planned, funded, and interwoven activities between research and extension to solve problems. This includes the generation of knowledge and the transfer of information and technology.

Multistate activities means collaborative efforts that reflect the programs of institutions located in at least two or more States or territories.

Planned Programs means collections of research projects or activities and/or extension programs or activities.

III. Multistate Extension Activities

A. Reconfirm or Reset Target Percentages

By September 30, 2010, each 1862 Land-Grant Institution must reconfirm or reset their Target Percentage for multistate extension activities. Institutions have a choice of two options: (A) Target 25 percent which will automatically waive the requirement to report on the FY 1997 expenditures for multistate extensions activities; or (B) Target a percentage which is two times the FY 1997 expenditures for multistate extension activities (commonly referred to as the FY 1997 baseline) but less than 25 percent. Institutions will use Form NIFA-TARG (Rev. 07/2010), Establishment of Target Percentages for Multistate Extension Activities and Integrated Activities, to select their option. If an institution wishes to reconfirm their original Target Percentage, they should forward a copy of the original Form NIFA-TARG (Rev. 07/2010) and Form NIFA-BASE (Rev. 07/2010) to the NIFA Formula Grants Section, Awards Management Branch, with a memo that the 1862 Land-Grant Institution is reconfirming the original Target Percentages set in FY 2000. Institutions selecting Option B for the first time also are required to report by September 30, 2010, the amount of FY 1997 funds allocated under sections 3(b) and (c) of the Smith-Lever Act (i.e., the regular allocation only) and expended on multistate extension activities during the period from October 1, 1996, through September 30, 1997. These institutions will use Form NIFA-BASE (Rev. 07/2010), Establishment of Fiscal Year (FY) 1997 Baselines for Multistate Extension Activities and Integrated Activities. When completing this form, institutions may opt to report on the planned program level which is a collection of extension programs or activities. Please see Appendix A for the total amount of Smith-Lever Act sections 3(b) and (c) funds that were allocated to the 1862 Land-Grant Institutions in FY 1997. The requirement to submit Form NIFA-BASE (Rev. 07/2010) is automatically waived for those institutions selecting Option A. States who were unable to document FY 1997 baseline expenditures must select Option A which is 25 percent.

The term “Multistate activities” means collaborative efforts that reflect the programs of institutions located in at least two or more States or territories. Each participating State or territory must be a collaborator towards objectives and involved in the outcomes. Evidence of this collaboration should have been documented through the formal agreements, letters of memorandum, contracts, grants, or other documents that provide primary evidence that a multistate relationship exists. Please note that formal agreements are not required. As mentioned in the Preface, this requirement applies to the Federal formula funds only and will apply to the Smith-Lever Act section 3(b) and (c) funds (i.e., the regular allocation only). Examples of multistate extension activities may include committees, projects, training, workshops, centers, and meetings that involve more than one State or territory.

B. Submission of Supplement to the 5-Year Plan of Work Update

Each institution also is required to submit Form NIFA-PLAN (Rev. 07/2010), Supplement to the 5-Year Plan of Work, Multistate Extension Activities and Integrated Activities, for all multistate extension activities that will be supported by the Smith-Lever Act section 3(b) and (c) funds used to satisfy the AREERA section 105 requirement for multistate extension activities. This form should be completed each fiscal year to reflect the 5-Year Plan of Work updated and submitted in the AREERA State Plan of Work Information System. Institutions should use the prior fiscal year amount (e.g., use the FY 2009 allocation amount for the FY 2011-2015 reporting requirement due in FY 2010) as a basis for planning programs and/or activities to meet the AREERA section 105 requirements. Please note that compliance with section 105 of AREERA will be determined by the institution meeting the Target Percentage of the actual formula allocation for the applicable fiscal year. This form (NIFA-TARG (Rev. 07/2010)) is due to the NIFA Formula Grants Section, Awards Management Branch, by April 1st each fiscal year and should complement the 5-Year Plan of Work. A brief statement of each planned program or activity is required and must be attached to this form. However, in lieu of these brief statements, institutions may refer to information on multistate extension activities reported in the 5-Year Plan of Work, if such information clearly describes multistate extension planned programs and/or activities as listed on Form NIFA-PLAN (Rev. 07/2010).

C. Annual Report of Accomplishments and Results

Form NIFA-REPT (Rev. 07/2010), Supplement to the Annual Report of Accomplishments and Results, Multistate Extension Activities and Integrated Activities, will be due on April 1st each year and must be submitted as a summary of the multistate extension planned programs or activities that have been used to satisfy the requirements of AREERA section 105. The form has been designed so that each institution will submit only one form with attached brief summaries for each fiscal year. The form allows for the reporting on all three AREERA requirements: Hatch integrated; Smith-Lever multistate; and Smith-Lever integrated and includes a certification statement. One form should be submitted for each fiscal year; and current fiscal year funds should not be commingled with funds from prior fiscal years. If you are carrying over AREERA multistate and integrated requirements from a previous fiscal year and both requirements are satisfied in a later fiscal year, the Form NIFA-REPT (Rev. 07/2010) should be marked “Final” for that fiscal year. If you are carrying over these AREERA requirements into the next fiscal year, the Form NIFA-REPT (Rev. 07/2010) should be marked “Interim” for that fiscal year in which the funds were first allocated. Do not submit a “Final” report for any fiscal year until the full requirement has been met for all three AREERA requirements. If you know that you will be unable to meet your AREERA requirements for any fiscal year, please contact NIFA Formula Grants Section, Awards Management Branch, via email as soon as possible. NIFA may be required to reduce your allocation by the Target Percentage amount not met, as these costs will be disallowed. Brief statements or summaries describing the activities performed and the progress to date on each planned program or activity must be attached to this form. Although the Annual Report describes in detail the goals and accomplishments for an institution's entire program, a brief description of the Multistate Extension Activities for each program listed in the NIFA-REPT (Rev. 07/2010) form must be attached. Please note that amounts on these forms are subject to audit. This form is due each fiscal year on April 1st and should be submitted to the NIFA Formula Grants Section, Awards Management Branch.

D. Waivers

A waiver may be requested for failure to meet the AREERA section 105 requirement. Eligible institutions may request a waiver for this purpose when one of the following criteria is met: (1) Infeasibility, (2) hardship, or (3) other circumstances beyond control of the State. The waiver request and supporting documentation should be addressed to NIFA Director and forwarded to the NIFA Formula Grants Section, Awards Management Branch. Waivers can only be granted on an annual basis and may be processed as either a pre-waiver or a post-waiver. A pre-waiver must be submitted prior to October 1st of the fiscal year. A post-waiver must be submitted with the other AREERA Section 105 reporting requirements due April 1st. Institutions must use Form NIFA-WAIVER (07/2010), Request for Waiver from Target Percentage for Multistate Extension Activities and Integrated Activities, to request a reduction in the minimum percentage required to be expended for multistate extension activities. The waiver request should be signed by the appropriate institutional official (i.e., Dean or Director). To expedite the consideration of the waiver request, the institution should include the following elements in the request letter:

(a) A request for the waiver by grant;

(b) A statement of the fiscal year for which the waiver is requested;

(c) A statement of the amount of the waiver being requested by fiscal year and how the amount was computed;

(d) A statement of why the waiver is required;

(e) Documentation supporting the need for a waiver; and

(f) The university's efforts to meet the AREERA section 105 requirements in the future. NIFA will approve or disapprove these waiver requests within 60 days of receipt. As stated above, waivers will be granted in cases of hardship, infeasibility, or other circumstances beyond the control of the States.

IV. Integrated Research and Extension Activities (Hatch Act Funds)

A. Reconfirm or Reset Target Percentages

By September 30, 2010, each 1862 Land-Grant Institution must reconfirm or reset their Target Percentage for integrated research and extension activities authorized under the Hatch Act. Institutions have a choice of two options: (A) Target 25 percent which will automatically waive the requirement to report on the FY 1997 expenditures for integrated research and extension activities; or (B) Target a percentage which is two times the FY 1997 expenditures for integrated research and extension activities (commonly referred to as the FY 1997 baseline) but less than 25 percent. Institutions will use Form NIFA-TARG (Rev. 07/2010), Establishment of Target Percentages for Multistate Extension Activities and Integrated Activities, to select their option. If an institution wishes to reconfirm their original Target Percentage, they should forward a copy of the original Form NIFA-TARG (Rev. 07/2010) and Form NIFA-BASE (Rev. 07/2010) to the NIFA Formula Grants Section, Awards Management Branch, with a memo that the 1862 Land-Grant Institution is reconfirming the original Target Percentages set in FY 2000. Institutions selecting Option B for the first time also are required to report by September 30, 2010, the amount of FY 1997 funds allocated under the Hatch Act and expended on integrated research and extension activities during the period from October 1, 1996, through September 20, 1997. These institutions will use Form NIFA-BASE (Rev. 07/2010), Establishment of Fiscal Year (FY) 1997 Baselines for Multistate Extension Activities and Integrated Activities. When completing this form, institutions may opt to report on the planned program level which is a collection of integrated research and extension programs or activities. Please see Appendix A for the total amount of the Hatch Act funds that were allocated to the 1862 Land-Grant Institutions in FY 1997. The requirement to submit Form NIFA-BASE (Rev. 07/2010) is automatically waived for those institutions selecting Option A. States who were unable to document FY 1997 baseline expenditures must select Option A which is 25 percent.

Integrated activities mean jointly planned, funded, and interwoven activities between research and extension to solve problems. This includes the generation of knowledge and the transfer of information and technology. As mentioned in the Preface, this requirement applies to the Federal formula funds only and will apply to all funds authorized and allocated under the Hatch Act, including Hatch Multistate Research Fund. Examples of integrated activities include joint research and extension personnel appointments. In addition, integrated activities may include coordinating committees, workshops, training, centers, projects, and meetings as long as they meet the definition of “integrated activities.”

B. Submission of Supplement to the 5-Year Plan of Work Update

Each institution also is required to submit Form NIFA-PLAN (Rev. 07/2010), Supplement to the 5-Year Plan of Work, Multistate Extension Activities and Integrated Activities, for all integrated research and extension activities that will be supported by the Hatch Act funds used to satisfy the AREERA section 204 requirement for integrated research and extension activities. This form should be completed each fiscal year to reflect the 5-Year Plan of Work updated and submitted in the AREERA State Plan of Work Information System. Institutions should use the prior fiscal year amount (e.g., use the FY 2009 allocation amount for the FY 2011-2015 reporting requirement due in FY 2010) as a basis for planning programs and/or activities to meet the AREERA section 204 requirements. Please note that compliance with section 204 of AREERA will be determined by the institution meeting the Target Percentage of the actual formula allocation for the applicable fiscal year. This form (NIFA-TARG (Rev. 07/2010)) is due to the NIFA Formula Grants Section, Awards Management Branch, by April 1st each fiscal year and should complement the 5-Year Plan of Work. A brief statement of each planned program or activity is required and must be attached to this form. However, in lieu of these brief statements, institutions may refer to information on integrated activities reported in the 5-Year Plan of Work, if such information clearly describes integrated planned programs and/or activities as listed on Form NIFA PLAN (Rev. 07/2010).

C. Annual Report of Accomplishments and Results

Form NIFA-REPT (Rev. 07/2010), Supplement to the Annual Report of Accomplishments and Results, Multistate Extension Activities and Integrated Activities, will be due April 1st each year and must be submitted as a summary of the integrated research and extension planned programs or activities that have been used to satisfy the requirements of AREERA section 204. The form has been designed so that each institution will submit only one form with attached brief summaries for each fiscal year. The form allows for the reporting on all three AREERA requirements: Hatch integrated; Smith-Lever multistate; and Smith-Lever integrated and includes a certification statement. One form should be submitted for each fiscal year; and current fiscal year funds should not be commingled with funds from prior fiscal years. If you are carrying over AREERA multistate and integrated requirements from a previous fiscal year and both requirements are satisfied in a later fiscal year, the Form NIFA-REPT (Rev. 07/2010) should be marked “Final” for that fiscal year. If you are carrying over these AREERA requirements into the next fiscal year, the Form NIFA-REPT (Rev. 07/2010) should be marked “Interim” for that fiscal year in which the funds were first allocated. Do not submit a “Final” report for any fiscal year until the full requirement has been met for all three AREERA requirements. If you know that you will be unable to meet your AREERA requirements for any fiscal year, please contact the NIFA Formula Grants Section, Awards Management Branch, via email as soon as possible. NIFA may be required to reduce your allocation by the Target Percentage amount not met, as these costs will be disallowed. Brief statements or summaries describing the activities performed and the progress to date on each planned program or activity must be attached to this form. Although the Annual Report describes in detail the goals and accomplishments for an institution's entire program, a brief description of the Integrated Research and Extension Activities for each program listed in the NIFA-REPT (Rev. 07/2010) form must be attached. Please note that amounts on these forms are subject to audit. This form is due each fiscal year on April 1st and should be submitted to the NIFA Formula Grants Section, Awards Management Branch.

D. Waivers

A waiver may be requested for failure to meet the AREERA section 204 requirement. Eligible institutions may request a waiver for this purpose when one of the following criteria is met: (1) Infeasibility, (2) hardship, or (3) other circumstances beyond the control of the State. The waiver request and supporting documentation should be addressed to the NIFA Director and forwarded to the NIFA Formula Grants Section, Awards Management Branch. Waivers can only be granted on an annual basis and may be processed as either a pre-waiver or a post-waiver. A pre-waiver must be submitted prior to October 1st of the fiscal year. A post-waiver must be submitted with the other AREERA Section 204 reporting requirements due April 1st. Institutions must use Form NIFA-WAIVER (Rev. 07/2010), Request for Waiver from Target Percentage for Multistate Extension Activities and Integrated Activities, to request a reduction in the minimum percentage required to be expended for integrated research and extension activities. The waiver request should be signed by the appropriate institutional official (i.e., Dean or Director). To expedite the consideration of the waiver request, the institution should include the following elements in the requested letter:

(a) A request for the waiver by grant;

(b) A statement of the fiscal year for which the waiver is requested;

(c) A statement of the amount of the waiver being requested by fiscal year and how the amount was computed;

(d) A statement of why the waiver is required;

(e) Documentation supporting the need for a waiver; and

(f) The university's efforts to meet the AREERA section 204 requirements in the future. NIFA will approve or disapprove these waiver requests within 60 days of receipt. As stated above, waivers will be granted in cases of hardship, infeasibility, or other circumstances beyond the control of the States.

V. Integrated Research and Extension Activities (Smith-Lever Act Funds)

A. Reconfirm or Reset Target Percentages

By September 30, 2010, each 1862 Land-Grant Institution must reconfirm or reset their Target Percentage for integrated research and extension activities authorized under the Smith-Lever Act. Institutions have a choice of two options: (A) Target 25 percent which will automatically waive the requirement to report on the FY 1997 expenditures for integrated research and extension activities; or (B) Target a percentage which is two times the FY 1997 expenditures for integrated research and extension activities (commonly referred to as the FY 1997 baseline) but less than 25 percent. Institutions will use Form NIFA-TARG (Rev. 07/2010), Establishment of Target Percentages for Multistate Extension Activities and Integrated Activities, to select their option. If an institution wishes to reconfirm their original Target Percentage, they should forward a copy of the original Form NIFA-TARG (Rev. 07/2010) and Form NIFA-BASE (Rev. 07/2010) to the Formula Grants Section, Awards Management Branch, with a memo that the 1862 Land-Grant Institution is reconfirming the original Target Percentages set in FY 2000. Institutions selecting Option B for the first time also are required to report by September 30, 2010, the amount of FY 1997 funds allocated under the Smith-Lever Act and expended on integrated research and extension activities during the period from October 1, 1996, through September 30, 1997. These institutions will use Form NIFA-BASE (Rev. 07/2010), Establishment of Fiscal Year (FY) 1997 Baselines for Multistate Extension Activities and Integrated Activities. When completing this form, institutions may opt to report on the planned program level which is collection of integrated research and extension programs or activities. Please see Appendix A for the total amount of Smith-Lever Act funds that were allocated to the 1862 Land-Grant Institutions in FY 1997. The requirement to submit Form NIFA-BASE (Rev. 07/2010) is automatically waived for those institutions selecting Option A. States who were unable to document FY 1997 baseline expenditures must select Option A which is 25 percent.

Integrated activities means jointly planned, funded, and interwoven activities between research and extension to solve problems. This includes the generation of knowledge and the transfer of information and technology. As mentioned in the Preface, this requirement applies to the Federal formula funds only and will apply to all funds authorized and allocated under the Smith-Lever Act. Examples of integrated activities include joint research and extension personnel appointments. In addition, integrated activities may include coordinating committees, workshops, training, centers, projects, and meetings as long as they meet the definition of “integrated activities.”

B. Submission of Supplement to the 5-Year Plan of Work Update

Each institution also is required to submit Form NIFA-PLAN (Rev. 07/2010), Supplement to the 5-Year Plan of Work, Multistate Extension Activities and Integrated Activities, for all integrated research and extension activities that will be supported by the Smith-Lever Act funds used to satisfy the AREERA section 204 requirement for integrated research and extension activities. This form should be completed each fiscal year to reflect the 5-Year Plan of Work updated and submitted in the AREERA State Plan of Work Information System. Institutions should use the prior fiscal year amount (e.g., use the FY 2009 allocation amount for the FY 2011-2015 reporting requirement due in FY 2010) as a basis for planning programs and/or activities to meet the AREERA section 204 requirements. Please note that compliance with section 204 of AREERA will be determined by the institution meeting the Target Percentage of the actual formula allocation for the applicable fiscal year. This form (NIFA-TARG (Rev. 07/2010)) is due to the NIFA Formula Grants Section, Awards Management Branch, by April 1st each fiscal year and should complement the 5-Year Plan of Work. A brief statement of each planned program or activity is required and must be attached to this form. However, in lieu of these brief statements, institutions may refer to information on integrated activities reported in the 5-Year Plan of Work, if such information clearly describes integrated planned programs and/or activities as listed on Form NIFA PLAN (Rev. 07/2010).

C. Annual Report of Accomplishments and Results

Form NIFA-REPT (Rev. 07/2010) Supplement to the Annual Report of Accomplishments and Results, Multistate Extension Activities and Integrated Activities, will be due April 1st each year and must be submitted as a summary of the integrated research and extension planned programs or activities that have been used to satisfy the requirements of AREERA section 204. The form has been designed so that each institution will submit only one form with attached brief summaries for each fiscal year. The form allows for the reporting on all three AREERA requirements: Hatch integrated; Smith-Lever multistate; and Smith-Lever integrated and includes a certification statement. One form should be submitted for each fiscal year, and current fiscal year funds should not be commingled with funds from prior fiscal years. If you are carrying over AREERA multistate and integrated requirements from a previous fiscal year and both requirements are satisfied in a later fiscal year, the Form NIFA-REPT (Rev. 07/2010) should be marked “Final” for that fiscal year. If you are carrying over these AREERA requirements into the next fiscal year, the Form NIFA-REPT (Rev. 07/2010) should be marked “Interim” for that fiscal year in which the funds were first allocated. Do not submit a “Final” report for any fiscal year until the full requirement has been met for all three AREERA requirements. If you know that you will be unable to meet your AREERA requirements for any fiscal year, please contact NIFA Formula Grants Section, Awards Management Branch, via e-mail as soon as possible. NIFA may be required to reduce your allocation by the Target Percentage amount not met, as these costs will be disallowed. Brief statements or summaries describing the activities performed and the progress to date on each planned program or activity must be attached to this form. Although the Annual Report describes in detail the goals and accomplishments for an institution's entire program, a brief description of the Integrated Research and Extension Activities for each program listed in the NIFA-REPT (Rev. 07/2010) form must be attached. Please note that amounts on these forms are subject to audit. This form is due each fiscal year on April 1st and should be submitted to the NIFA Formula Grants Section, Awards Management Branch.

D. Waivers

A waiver may be requested for failure to meet the AREERA section 204 requirement. Eligible institutions may request a waiver for this purpose when one of the following criteria is met: (1) Infeasibility, (2) hardship, or (3) other circumstances beyond the control of the State. The waiver request and supporting documentation should be addressed to the NIFA Director and forwarded to the NIFA Formula Grants Section, Awards Management Branch. Waivers can only be granted on an annual basis and may be processed as either a pre-waiver or a post-waiver. A pre-waiver must be submitted prior to October 1st of the fiscal year. A post-waiver must be submitted with the other AREERA Section 204 reporting requirements due April 1st. Institutions must use Form NIFA-WAIVER (Rev. 07/2010), Request for Waiver from Target Percentage for Multistate Extension Activities and Integrated Activities, to request a reduction in the minimum percentage required to be expended for integrated research and extension activities. The waiver request should be signed by the appropriate institutional official (i.e., Dean or Director). To expedite the consideration of the waiver request, the institution should include the following elements in the requested letter:

(a) A request for the waiver by grant;

(b) A statement of the fiscal year for which the waiver is requested;

(c) A statement of the amount of the waiver being requested by fiscal year and how the amount was computed;

(d) A statement of why the waiver is required;

(e) Documentation supporting the need for a waiver; and

(f) The university's efforts to meet the AREERA section 204 requirements in the future. NIFA will approve or disapprove these waiver requests within 60 days of receipt. As stated above, waivers will be granted in cases of hardship, infeasibility, or other circumstances beyond the control of the State.

VI. Submission of Forms

All forms collected under this Interim Administrative Guidance should be submitted electronically to formulagrantforms@nifa.usda.gov or via fax on (202) 401-7752.

Dated: Done at Washington, DC, this 2nd day of August 2010.
Roger Beachy,
Director, National Institute of Food and Agriculture.

[FR Doc. 2010-19629 Filed 8-11-10; 8:45 am]

BILLING CODE 3410-22-P